ENVIRONMENTAL PROTECTION AGENCY

[EPA-HQ-OPPT-2015-0186; FRL-9931-82]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from June 1, 2015 to June 30, 2015.

DATES: Comments identified by the specific PMN number or TME number, must be received on or before September 14, 2015.

ADDRESSES: Submit your comments, identified by docket identification (ID) number EPA-HQ-OPPT-2015-0186, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW., Washington, DC 20460-0001; telephone number: (202) 564-8593; email address: Rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from June 1, 2015 to June 30, 2015, and consists of the PMNs and TMEs both pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—57 PMNs Received From 06/01/2015 to 06/30/2015
Case No. | Received date | Projected notice end date | Manufacturer importer | Use | Chemical
P-15-0498 | 6/1/2015 | 8/30/2015 | Alberdingk Boley Inc | (S) Plastic coatings | (G) Castor oil, dehydrated, polymer with alkyldioic acid, polymer with alkyl diols, hydroxy (hydroxymethyl) alkylylpropanoic acid, methylenebis [isocyanatocycloalkane] and alkyl glycol.
P-15-0498 | 6/1/2015 | 8/30/2015 | Alberdingk Boley Inc | (S) Leather and textile impregnation | (G) Castor oil, dehydrated, polymer with alkyldioic acid, polymer with alkyl diols, hydroxy (hydroxymethyl) alkylylpropanoic acid, methylenebis [isocyanatocycloalkane] and alkyl glycol.
P-15-0498 | 6/1/2015 | 8/30/2015 | Alberdingk Boley Inc | (S) Wood coatings | (G) Castor oil, dehydrated, polymer with alkyldioic acid, polymer with alkyl diols, hydroxy (hydroxymethyl) alkylylpropanoic acid, methylenebis [isocyanatocycloalkane] and alkyl glycol.
P-15-0499 | 6/1/2015 | 8/30/2015 | Alberdingk Boley Inc | (S) Leather and textile impregnation | (G) Castor oil dehydrated, polymer with di-alkyl carbonate, alkyl diamine, alkyl diol, dihydroxyalkyl carboxylic acid and methylenebis [isocyanatocycloalkane]-, compound (compd)with trialkylamine.
P-15-0500 | 6/1/2015 | 8/30/2015 | Alberdingk Boley Inc | (S) Leather and textile impregnation | (G) Castor oil, dehydrated, polymer with alkyl diamine, dihydroxyalkyl carboxylic acid, aromatic azinetriamine, methylenebis [isocyanatocycloalkane]-, compds. with trialkylamine.
P-15-0501 | 6/1/2015 | 8/30/2015 | Alberdingk Boley Inc | (S) Leather and textile impregnation | (G) Castor oil, dehydrated, polymer with alkyldioic acid, alkyldiamine, alkyldiol, dihydroxyalkyl carboxylic acid, methylenebis [isocyanatocyclohexane], alkyl glycol, and polyethylene glycol bis (hydroxymethyl)alkyl Me ether, compd. with triakyl amine.
P-15-0502 | 6/2/2015 | 8/31/2015 | CBI | (G) Protective treatment | (G) Perfluorobutanesulfonamide and polyoxyalkylene containing polyurethane.
P-15-0503 | 6/2/2015 | 8/31/2015 | CBI | (S) Thermoplastic polyurethane for coatings/mouldings | (S) 2-oxepanone, polymer with 1,4-diisocyanatobenzene, 2,2-dimethyl-1,3-propanediol and 2,2′-[1,4-phenylenebis(oxy)] bis [ethanol].
P-15-0505 | 6/2/2015 | 8/31/2015 | CBI | (G) Automotive coating | (G) Dicarboxylic acid, polymer with cyclicdiol, dimethyl carbonate, 2,2-dimethyl-1,3-propanediol, 2-ethyl-2-(hydroxymethyl)-1,3-propanediol, monocyclic dicarboxylic acid, 1,6-hexanediol, 3-hydroxy-2-(hydroxymethyl)-2-methylpropanoic acid and 5-isocyanato-1-(isocyanatomethyl)-1,3,3-trimethylcyclohexane, compound with amino alcohol.
P-15-0506 | 6/4/2015 | 9/2/2015 | CBI | (G) Component in cleaning formulation | (G) Alkyl phosphate ammonium salt.
P-15-0507 | 6/4/2015 | 9/2/2015 | Shin Etsu Silicones of America | (S) Additive for hardcoat agent; additive for surface treatment agent; additive for photoresist | (S) Borate(1-), tetrahydro-, sodium (1:1), reaction products with reduced polymd. oxidized tetrafluoroethylene, hydrolyzed, diallyl ethers, polymers with 2,4,6,8-tetramethylcyclotetrasiloxane, si-(8,13-dioxo-4,7,12-trioxa-9-azapentadec-14-1-yl) derivs.*
P-15-0508 | 6/4/2015 | 9/2/2015 | CBI | (G) Softening of cellulose | (G) Fatty acids, reaction products with polyalkyl polyamine quaternized with dialkyl sulfate.
P-15-0509 | 6/5/2015 | 9/3/2015 | CBI | (G) This substance is to be used primarily as an additive in oil based drilling muds. it will be used mainly as a non-cationic emulsifier or wetting agent. . . . see comments field | (G) Fatty acids, tall-oil, mixed polyamides and amidoimidazolines.
P-15-0510 | 6/5/2015 | 9/3/2015 | CBI | (G) Additive for coatings | (G) Metal, compound with alkyl amine and methanol salt.
P-15-0511 | 6/5/2015 | 9/3/2015 | CBI | (G) Acrylic dispersant | (G) 2-propenoic acid, 2-methyl-, methyl ester, polymer with ethenylbenzene, ethyl 2-propenoate, 2-oxiranylmethyl 2-methyl-2-propenoate and 1,2-propanediol mono(2-methyl-2-propenoate), reaction products with dialkyl amine, carboxylate salt.
P-15-0512 | 6/5/2015 | 9/3/2015 | CBI | (G) Acrylic dispersant in coating | (G) 2-Propenoic acid, 2-methyl-, methyl ester, polymer with ethenylbenzene, ethyl 2-propenoate, 2-oxiranylmethyl 2-methyl-2-propenoate and 1,2-propanediol mono(2-methyl-2-propenoate), reaction products with dialkylamine.
P-15-0513 | 6/5/2015 | 9/3/2015 | CBI | (G) Acrylic dispersant in coating | (G) 2-Propenoic acid, 2-methyl, methyl ester, polymer with ethenylbenzene, ethyl 2-propenoate, 2-oxiranylmethyl 2-methyl-2-propenoate and 1,2-propanediol mono(2-methyl-2-propenoate), reaction products with alkylamine, carboxylate salt.
P-15-0514 | 6/5/2015 | 9/3/2015 | CBI | (G) Acrylic dispersant in coating | (G) 2-Propenoic acid, 2-methyl, methyl ester, polymer with ethenylbenzene, ethyl 2-propenoate, 2-oxiranylmethyl 2-methyl-2-propenoate and 1,2-propanediol mono(2-methyl-2-propenoate), reaction products with alkyl amine.
P-15-0515 | 6/5/2015 | 9/3/2015 | CBI | (G) Acrylic dispersant in coating | (G) 2-Propenoic acid, 2-methyl, methyl ester, polymer with ethenylbenzene, ethyl 2-propenoate, 2-oxiranylmethyl 2-methyl-2-propenoate and 1,2-propanediol mono(2-methyl-2-propenoate), reaction products with dialkylamine, carboxylate salt.
P-15-0516 | 6/5/2015 | 9/3/2015 | CBI | (G) Acrylic dispersant in coating | (G) 2-Propenoic acid, 2-methyl, methyl ester, polymer with ethenylbenzene, ethyl 2-propenoate, 2-oxiranylmethyl 2-methyl-2-propenoate and 1,2-propanediol mono(2-methyl-2-propenoate), reaction products with alkylamine, carboxylate salt.
P-15-0522 | 6/9/2015 | 9/7/2015 | DIC International (USA) LLC | (G) Colorant for color filter and industrial coatings | (G) Metal, phthalocyaninato(2-)-, halogenated.
P-15-0523 | 6/9/2015 | 9/7/2015 | CBI | (S) Binder for fibers used for non-woven mats | (G) Carbohydrates, polymer with amine compound.
P-15-0524 | 6/9/2015 | 9/7/2015 | E.I. Du Pont De Nemours | (G) Chemical intermediate | (G) N-methyl- (amino,chloro,methyl) carbomonocyclic carbamide.
P-15-0525 | 6/10/2015 | 9/8/2015 | CBI | (G) Catalyst | (G) Rare earth doped zirconium oxide.
P-15-0526 | 6/10/2015 | 9/8/2015 | CBI | (G) Catalyst | (G) Rare earth doped zirconium oxide.
P-15-0527 | 6/10/2015 | 9/8/2015 | CBI | (G) Catalyst | (G) Rare earth doped zirconium oxide.
P-15-0528 | 6/10/2015 | 9/8/2015 | CBI | (G) Catalyst | (G) Rare earth doped zirconium oxide.
P-15-0529 | 6/10/2015 | 9/8/2015 | CBI | (G) Adhesive component | (G) Polyurethane.
P-15-0530 | 6/12/2015 | 9/10/2015 | BASF Corporation | (G) Dispersing agent for pigments in paints and inks | (G) Alkoxylated fatty alcohol citrate.
P-15-0531 | 6/12/2015 | 9/10/2015 | CBI | (G) Defoamer | (G) Siloxanes and Silicones, di-Me ethers with polyalkylene glycol monoallyl ether.
P-15-0532 | 6/12/2015 | 9/10/2015 | Allnex USA Inc. | (S) Resin for 2 component urethane industrial coatings | (G) Substituted alkenoic acid, alkyl ester, polymer with substituted alkenoate and alkenoic acid, alkyl peroxide-initiated.
P-15-0533 | 6/12/2015 | 9/10/2015 | Allnex USA Inc. | (S) Resin for 2 component urethane industrial coatings | (G) Substituted heteropolycycle, polymer with substituted alkyldiols, and substututed heteropolycycle, substututed alkanoate.
P-15-0534 | 6/15/2015 | 9/13/2015 | CBI | (G) Printing Ink | (G) Polyamid Resin.
P-15-0535 | 6/15/2015 | 9/13/2015 | CBI | (G) Component in electrodeposition coating | (G) Propanoic acid, 3-hydroxy-2-(hydroxymethyl)-2-methyl-, compds. with hydroxylamine-blocked polymethylenepolyphenylene isocyanate-polymeric diol.
P-15-0536 | 6/15/2015 | 9/13/2015 | CBI | (G) Component in electrodeposition coating | (G) Formic acid, compds. with hydroxylamine-blocked polymethylenepolyphenylene isocyanate-polymeric diol.
P-15-0537 | 6/15/2015 | 9/13/2015 | CBI | (G) Component in electrodeposition coating | (G) Propanoic acid, 3-hydroxy-2-(hydroxymethyl)-2-methyl-, compds. with 2-(2-butoxyethoxy)ethanol- and hydroxylamine-blocked polymethylenepolyphenylene isocyanate-polymeric diol.
P-15-0538 | 6/15/2015 | 9/13/2015 | CBI | (G) Component in electrodeposition coating | (G) Formic acid, compds. with 2-(2-butoxyethoxy)ethanol- and hydroxylamine-blocked polymethylenepolyphenylene isocyanate-polymeric diol.
P-15-0539 | 6/15/2015 | 9/13/2015 | CBI | (G) Lubricant additive | (G) 2,5-Furandione, polymer with 1-dodecene, alkyl esters.
P-15-0540 | 6/17/2015 | 9/15/2015 | CBI | (S) Chemical intermediate in the production of Poly[oxy(methyl-1,2-ethanediyl)],a-sulfo-w-hydroxy-, C10-16-alkyl ethers CAS #1497417-15-8, and/or sodium salt of same | (S) Alcohols, C10-16, propoxylated.
P-15-0541 | 6/18/2015 | 9/16/2015 | CBI | (G) Additive for fabric coating | (G) Dicarboxylic acid, polymer with 1,6-diisocyanatohexane, 2,2-dimethyl-1,3-propanediol, 1,6-hexanediol and 5-isocyanato-1-(isocyanatomethyl)-1,3,3-trimethylcyclohexane.
P-15-0542 | 6/18/2015 | 9/16/2015 | Colonial Chemical, Inc | (S) Chemical intermediate for sale into commerce | (S) Quaternary ammonium compounds, (3-chloro-2-hydroxypropyl)coco alkyldimethyl, chlorides.
P-15-0542 | 6/18/2015 | 9/16/2015 | Colonial Chemical, Inc | (S) Intermediate for surfact production | (S) Quaternary ammonium compounds, (3-chloro-2-hydroxypropyl)coco alkyldimethyl, chlorides.
P-15-0544 | 6/19/2015 | 9/17/2015 | CBI | (G) Chemical Intermediate | (G) Trialkyl cycloalkylammonium hydroxide.
P-15-0545 | 6/22/2015 | 9/20/2015 | CBI | (G) Open, non-dispersive | (G) Amine-functional acrylic polymer.
P-15-0546 | 6/23/2015 | 9/21/2015 | CBI | (G) Chemical intermediate | (G) Maleated ester.
P-15-0547 | 6/23/2015 | 9/21/2015 | CBI | (G) Chemical intermediate | (G) Maleated alkyl esters.
P-15-0548 | 6/23/2015 | 9/21/2015 | CBI | (G) Lubricant component | (G) Saturated maleated esters.
P-15-0550 | 6/23/2015 | 9/21/2015 | DIC International (USA) LLC | (G) Coating material | (G) Tetrahydroalkyl aromatic heterocyclic diketone, polymer with dialkyleneglycol, trialkyleneglycol, heterocyclic diketone and aromatic heterocyclic diketone.
P-15-0551 | 6/23/2015 | 9/21/2015 | DIC International (USA) LLC | (G) Coating material | (G) Aromatic heterocyclic diketone, polymer with dialkyleneglycol, trialkyleneglycol and alkenoic acid glycidyl ester.
P-15-0552 | 6/24/2015 | 9/22/2015 | CBI | (G) Oil Production | (G) Dialkylamino alkylamide salt.
P-15-0553 | 6/24/2015 | 9/22/2015 | CBI | (G) Oil Production | (G) Dialkylamino alkylamide salt.
P-15-0554 | 6/24/2015 | 9/22/2015 | CBI | (G) Oil Production | (G) Dialkylamino alkylamide salt.
P-15-0555 | 6/24/2015 | 9/22/2015 | CBI | (G) Oil Production | (G) Dialkylamino alkylamide salt.
P-15-0557 | 6/24/2015 | 9/22/2015 | CBI | (G) Adhesive for open non-descriptive use | (G) Isocyanate terminated polyurethane.
P-15-0558 | 6/26/2015 | 9/24/2015 | CBI | (S) Intermediate | (S) 4-Morpholinepropanoic acid, .alpha.-methyl-, methyl ester.
P-15-0559 | 6/29/2015 | 9/27/2015 | CBI | (G) Raw material for flexible foam | (G) Diphenylmethane diisocyanate prepolymer.
P-15-0562 | 6/30/2015 | 9/28/2015 | CBI | (S) Pigment for automotive coatings to be used in automotive OEM and refinish | (G) Substituted alkylsilanes, reaction products with a mixture of metal oxides.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—5 TMEs Received From 06/01/2015 to 06/30/215
Case No. | Received date | Projected notice end date | Manufacturer importer | Use | Chemical
T-15-0010 | 6/4/2015 | 7/19/2015 | CBI | (G) Component in cleaning formulation | (G) Alkyl phosphate ammonium salt.
T-15-0013 | 6/24/2015 | 8/8/2015 | CBI | (G) Oil Production | (G) Dialkylamino alkylamide salt.
T-15-0011 | 6/24/2015 | 8/8/2015 | CBI | (G) Oil Production | (G) Dialkylamino alkylamide salt.
T-15-0014 | 6/24/2015 | 8/8/2015 | CBI | (G) Oil Production | (G) Dialkylamino alkylamide salt.
T-15-0012 | 6/24/2015 | 8/8/2015 | CBI | (G) Oil Production | (G) Dialkylamino alkylamide salt.

In Table III. of this unit, EPA provides the following information (to the extent that such information is not claimed as CBI) on the NOCs received by EPA during this period: The EPA case number assigned to the NOC, the date the NOC was received by EPA, the projected end date for EPA's review of the NOC, and chemical identity.

Table III—31 NOCs Received From 06/01/2015 to 06/30/2015
Case No. | Received date | Commencement notice end date | Chemical
P-13-0689 | 6/1/2015 | 5/1/2015 | (G) Alkanedioic acid, polymer with butanedioic acid, alkanediol and 2-substituted alkanedioic acid.
P-14-0609 | 6/1/2015 | 5/7/2015 | (G) Polysiloxane copolymer.
P-14-0604 | 6/1/2015 | 5/11/2015 | (G) Substituted polysiloxane.
P-15-0095 | 6/1/2015 | 5/12/2015 | (G) Urethane acrylate.
P-15-0203 | 6/1/2015 | 5/14/2015 | (S) Phenol, 3-propyl-.*
P-14-0728 | 6/1/2015 | 5/29/2015 | (S) D-glucopyranose, oligomeric, C10-16-alkyl glycosides, polymers with epichlorohydrin and oligomeric d-glucopyranose decyl octyl glycosides, 2-hydroxy-3-(trimethylammonio)propyl ethers, chlorides.*
P-14-0725 | 6/3/2015 | 6/1/2015 | (S) D-glucopyranose, oligomeric, C10-16-alkyl glycosides, polymers with epichlorohydrin, 3-(dodecyldimethylammonio)-2-hydroxypropyl ethers, chlorides.*
P-14-0727 | 6/3/2015 | 6/2/2015 | (S) D-glucopyranose, oligomeric, C10-16-alkyl glycosides, polymers with epichlorohydrin, 3-(dimethyloctadecylammonio)-2-hydroxypropyl ethers, chlorides.*
P-14-0767 | 6/5/2015 | 1/26/2015 | (G) Polyester acrylate.
P-13-0419 | 6/5/2015 | 5/21/2015 | (S) D-glucopyranoside, hexyl, reaction products with sodium bis(3-chloro-2-hydroxypropyl) phosphate (1:1).*
P-12-0438 | 6/5/2015 | 5/28/2015 | (G) Aminoalkyl substituted bicyclic olefin.
P-15-0097 | 6/5/2015 | 6/4/2015 | (S) D-glucopyranose, oligomeric, C10-16-alkyl glycosides, polymers with epichlorohydrin, glycidyl ethers, dihydrogen phosphates, sodium salts.*
P-15-0084 | 6/8/2015 | 5/10/2015 | (G) Aminophosphonate salt.
P-11-0322 | 6/8/2015 | 5/19/2015 | (G) Siloxanes and silicones, methyl alkyl, polyether modified.
P-15-0096 | 6/8/2015 | 6/6/2015 | (S) D-glucopyranose, oligomeric, decyl octyl glycosides, polymers with epichlorohydrin, glycidyl ethers, dihydrogen phosphates, sodium salts.*
P-15-0160 | 6/8/2015 | 6/6/2015 | (G) Alkyl dicarboxylic acids, polymers with alkenoic acid, alkyl alkenoate, alcohols, alkyl alkenoate and substituted carbomonocycle, alkyl peroxideinitiated.
P-15-0162 | 6/8/2015 | 6/6/2015 | (G) Alkyl dicarboxylic acids, polymers with alcohols.
P-14-0830 | 6/9/2015 | 6/3/2015 | (S) 1-Propanaminium, N,N,N-trimethyl-3-[(2-methyl-1-oxo-2-propenyl)amino]-, chloride (1:1), polymer with 2-propenamide and 2-propenoic acid, sodium salt.*
P-15-0294 | 6/15/2015 | 6/5/2015 | (G) Hydrocarbon ester acrylate.
P-15-0180 | 6/15/2015 | 6/13/2015 | (G) Substituted epoxide, polymer with epoxide, substituted alkyl methyl ether, polymer with cyclic anhydride polymer with ethenyl benzene, imidazolealkylamine and hydroxide.
P-15-0182 | 6/15/2015 | 6/13/2015 | (G) 2,5-Furandione, polymer with ethenylbenzene, imide, reaction products with substituted alkyldiamine, imidazole alkylamine and substituted epoxide, polymer with epoxide, substituted alkyl methyl ether.
P-15-0183 | 6/15/2015 | 6/13/2015 | (G) 2,5-Furandione, polymer with ethenylbenzene, ester with polyethoxylated alkanol, compd. with substituted aminoalcohol.
P-14-0198 | 6/16/2015 | 6/4/2015 | (G) Trialkylammonium borodibenzoate.
P-13-0826 | 6/16/2015 | 6/15/2015 | (S) 2-Oxepanone, polymer with 1,4-butanediol, 1,4-disocyanatobenzene and 2,2-dimethyl-1,3-propanediol.*
P-15-0305 | 6/18/2015 | 6/5/2015 | (G) Aliphatic polyester.
P-12-0030 | 6/19/2015 | 6/18/2015 | (G) Modified fluorinated acrylate.
P-15-0323 | 6/22/2015 | 6/14/2015 | (G) Alkanoic acid, polymer with substituted carbomonocycle, substituted heteromonocycle, alkyl ester, alkyl peroxide-initiated.
P-15-0252 | 6/29/2015 | 6/1/2015 | (G) Titanium salt, reaction products with silica.
P-15-0352 | 6/29/2015 | 6/24/2015 | (G) Polyurethane, (meth)acrylate blocked.
P-13-0288 | 6/30/2015 | 6/10/2015 | (G) Fluorinated diamine.
P-15-0041 | 6/30/2015 | 6/24/2015 | (S) 2-Oxepanone, polymer with bis(isocyanatomethyl)cyclohexane and 1,4 butanediol.*

If you are interested in information that is not included in these tables, you may contact EPA as described in Unit III to access additional non-CBI information that may be available.

Authority: 15 U.S.C. 2601 et seq.

Dated: August 5, 2015.
Chandler Sirmons,
Acting Director, Information Management Division, Office of Pollution Prevention and Toxics.

[FR Doc. 2015-20018 Filed 8-13-15; 8:45 am]

BILLING CODE 6560-50-P